COMMISSION ON CIVIL RIGHTS

Agenda and Notice of Public Meeting of the Vermont Advisory Committee

Notice is hereby given, pursuant to the provisions of the rules and regulations of the U.S. Commission on Civil Rights (Commission), and the Federal Advisory Committee Act (FACA), that briefing and planning meetings of the Vermont Advisory Committee to the Commission will convene at 10:30 a.m. (EST) on Monday, March 28, 2011, at the Vermont State House, 115 State Street, Room 11, Montpelier, VT 05633.

The purpose of the briefing is to discuss criminal justice data collection and analysis procedures. The purpose of the planning meeting is to plan future activities.

Members of the public are entitled to submit written comments; the comments must be received in the regional office by April 28, 2011. Written comments may be mailed, e-mailed, or faxed to the Eastern Regional Office (ERO). Persons who desire additional information may make their request by mail, e-mail, phone, or fax. See contact information below.

Records generated from these meetings may be inspected and reproduced at the ERO, as they become available, both before and after the meetings. Persons interested in the work of this advisory committee are directed to the Commission's Web site, http://www.usccr.gov, or may contact the ERO. See contact information below.

Persons who are deaf or hearing-impaired who will attend the meetings and require the services of a sign language interpreter should contact the ERO at least ten (10) days before the scheduled date of the meeting either by e-mail or TDD relay service. See contact information below.

The meetings will be conducted pursuant to the provisions of the rules and regulations of the Commission and FACA.

Dated in Washington, DC, on March 17, 2011.
Peter Minarik,
Acting Chief, Regional Programs Coordination Unit.

[FR Doc. 2011-6817 Filed 3-22-11; 8:45 am]

BILLING CODE 6335-01-P